DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

On May 9, 2023, OFAC determined that the property and interests in property subject to U.S. jurisdiction of the following persons are blocked under the relevant sanctions authority listed below.

Individuals

1. OGAZON SEDANO, Mario Esteban, Villa Calomato 3595, Fraccionamiento Colinas de la Rivera, Culiacan, Sinaloa, Mexico; DOB 14 Jul 1980; POB Sinaloa, Mexico; nationality Mexico; Gender Male; C.U.R.P. OASM800714HSLGDR00 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. GUZMAN LOPEZ, Joaquin (a.k.a. “El Guero”; a.k.a. “Guero Moreno”; a.k.a. “Moreno”), Sinaloa, Mexico; DOB 16 Jul 1986; POB Sonora, Mexico; nationality Mexico; Gender Male; C.U.R.P. GULJ860716HSRZPQ01 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

3. PAEZ LOPEZ, Saul, Mexico; DOB 31 Jan 1994; POB Sinaloa, Mexico; nationality Mexico; Gender Male; C.U.R.P. PALS940131HSLZPL01 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

4. PEREZ URIBE, Raymundo, Mexico; DOB 10 Feb 1951; POB Mexico City, Mexico; nationality Mexico; Gender Male; C.U.R.P. PEUR510210HDFRRY09 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

Entities

5. URBANIZACION, INMOBILIARIA Y CONSTRUCCION DE OBRAS, S.A. DE C.V., Culiacan, Sinaloa, Mexico; Blvd. Pedro Maria Anaya 2498 NTE, Col. Villa Universidad, Culiacan, Sinaloa, Mexico; Organization Established Date 03 Jun 2010; Organization Type: Real estate activities on a fee or contract basis; R.F.C. UIC100603PR2 (Mexico); Folio Mercantil No. 79755 (Mexico) [ILLICIT-DRUGS-EO14059].

Designated pursuant to section 1(b)(iii) of E.O. 14059 for being owned, controlled, or directed by, or having acted or purported to act for or on behalf of, directly or indirectly, Mario Esteban OGAZON SEDANO, a person sanctioned pursuant to E.O. 14059.

6. SUMILAB, S.A. DE C.V., Culiacan, Sinaloa, Mexico; Boulevard Enrique Cabrera 2212, Culiacan, Sinaloa C.P. 80020, Mexico; Organization Established Date 25 May 2001; Organization Type: Manufacture of chemicals and chemical products; R.F.C. SUM010525IF9 (Mexico); Folio Mercantil No. 56745 (Mexico) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

Dated: May 9, 2023.
Andrea M. Gacki,
Director, Office of Foreign Assets Control, U.S. Department of the Treasury.

[FR Doc. 2023-10150 Filed 5-11-23; 8:45 am]

BILLING CODE 4810-AL-P